DEPARTMENT OF THE DEFENSE

Department of the Army, Corps of Engineers

Withdrawal of the Notice of Intent To Prepare an Environmental Impact Statement for the Carpinteria Shoreline, a Feasibility Study in the City of Carpinteria, Santa Barbara County, CA

AGENCY: Army Corps of Engineers, DoD.

ACTION: Notice of intent; withdrawal.

SUMMARY: The U.S. Army Corps of Engineers, Los Angeles District, Planning Division is notifying interested parties that it has withdrawn the Notice of Intent (NOI) to develop an environmental impact statement (EIS) for the proposed Carpinteria Shoreline General Investigation (GI) feasibility study. The original NOI to prepare a EIS was published in the Federal Register on September 11, 2003. The proposed Carpinteria Shoreline GI feasibility study is being converted to a Continuing Authority Program (CAP) study.

DATES: The notice of intent to prepare an EIS published in the Federal Register on September 11, 2003 (68 FR 53598), is withdrawn as of July 30, 2021.

ADDRESSES: U.S. Army Corps of Engineers, Los Angeles District, Environmental Resources Branch, (CESPL-PDR), 915 Wilshire Blvd., Suite 930, Los Angeles, CA 90017-3489.

FOR FURTHER INFORMATION CONTACT: Questions regarding the withdrawal of this NOI should be addressed to Mr. Kirk Brus, 213-452-3876, or kirk.c.brus@usace.army.mil.

SUPPLEMENTARY INFORMATION: Study efforts in the Carpinteria study area will be converted to the Continuing Authorities Program (CAP) Section 103 which addresses projects of limited size, cost and complexity for Hurricane and Storm Damage Reduction.

Antoinette R. Gant,
Colonel, U.S. Army, Division Commander.

[FR Doc. 2021-16327 Filed 7-29-21; 8:45 am]

BILLING CODE 3720-58-P